DEPARTMENT OF INTERIOR

Bureau of Land Management

[NV-010-06-1220-PA]

Notice of Travel Restriction to Off-Road Vehicles

AGENCY: Bureau of Land Management, Interior.

ACTION: Notice of off-road vehicle (ORV), also referred to as off-highway vehicle (OHV), travel restriction to motorized use on public lands in the Elko Field Office, Spruce Mountain Area, Nevada Department of Wildlife Hunt Unit 105.

SUMMARY: Pursuant to 43 Code of Federal Regulations 8341.2, effective on publication of this Notice; off-road vehicles (ORV) travel is restricted to existing roads and two-tracks (approximately 850 miles) on public lands on and in the vicinity of Spruce Mountain, south of Wells, Nevada. The public lands affected by this restriction are located in portions of T. 29 N., R. 64 E; T. 30 N., R. 63 thru 65 E.; and T. 31 thru 34 N., R. 62 thru 66 E., MDM, Elko County, Nevada. This notice also prohibits competitive events on public lands in the area. The purpose of this action is to protect important cultural resources and wildlife habitats.

DATES: Effective Dates: This notice is effective immediately and shall remain in effect until BLM completes a land use plan revision (currently scheduled for 2009) and a Record of Decision.

FOR FURTHER INFORMATION CONTACT: Clinton R. Oke, Assistant Field Manager, Non Renewable Resources, Elko Field Office. 3900 E. Idaho Street, Elko, Nevada, 89801, telephone (775)-753-0200.

SUPPLEMENTARY INFORMATION: In 1985, the Wells and Elko Resource Management Plans (RMP) designated the majority of public lands managed by the BLM Elko Field Office as “open” to off-road vehicle use. Since that time, improvements to OHV and all-terrain vehicle design, capability, affordability and popularity have led to more numerous and widespread presence of these motorized vehicles. This increased use is creating adverse impacts to important cultural resources and wildlife habitat.

The BLM Elko Field Office is seeking input from interested publics, organizations, and agencies for a Travel Management Plan for the Spruce Mountain Area, NDOW Hunt Unit 105. This Travel Management Plan will also have input from the Northeastern Great Basin Resource Advisory Council (RAC). Any travel limitations recommended will be considered in the Resource Management Plan (RMP) revision process. Maps of the travel restricted area are available for review at the above address.

The purpose of the temporary travel restriction is to protect important cultural resources and wildlife habitat, and address imminent adverse impacts from ORV use off of existing roads and two-tracks.

Authority: This notice issued under the authority of 43 CFR 8341.2. Violations of this restriction are punishable by a fine not to exceed $1,000 and/or imprisonment not to exceed 12 months as provided.

Exemptions from this restriction will apply for BLM authorized permittees related to their ranching operations as described within the terms and conditions of their existing permits, official Nevada State and Elko County business and BLM law enforcement. The authorized officer may make other exemptions to the restrictions on a case-by-case basis.

Dated: February 23, 2006.
Helen M. Hankins,
Field Office Manager.

[FR Doc. E6-5992 Filed 4-20-06; 8:45 am]

BILLING CODE 4310-HC-P